INTERNATIONAL TRADE COMMISSION

[Investigation No. 332-445]

Conditions of Competition in the U.S. Market for Wood Structural Building Components

AGENCY: United States International Trade Commission.

ACTION: Institution of investigation and scheduling of public hearing.

EFFECTIVE DATE: August 19, 2002.

SUMMARY: Following receipt of the request on July 31, 2002, from the Senate Committee on Finance, the Commission instituted investigation No. 332-445 Conditions of Competition in the U.S. Market for Wood Structural Building Components, under section 332(g) of the Tariff Act of 1930 (19 U.S.C. 1332(g)).

As requested by the Committee, the Commission will conduct an investigation and provide a report on competitive conditions in the U.S. market for structural building components. In its report the Commission will provide, to the extent possible, the following:

1. An overview of the North American market for prefabricated wood structural building components (including a description of the principal structural wood components in production and trade, and their non-wood substitutes);

2. A description of the U.S. industry, and the industry in the principal countries supplying the U.S. market, including recent trends in production, capacity, employment, and consumption;

3. Trade patterns (both imports and exports), factors affecting trade patterns (including tariffs and other border measures), and competitive conditions affecting U.S. production and trade;

4. Views of industry, homebuilders, and other interested parties on future developments in the supply of and the demand for U.S. wood structural building components, including the effect of imports (including factors affecting imports such as tariffs and other border measures) and non-wood substitutes on U.S. production and housing construction; and

5. A comparison of the strengths and weaknesses of the U.S. industry and major U.S. suppliers in such areas as raw material supply, technological capabilities, plant and equipment modernization, and present capacity and potential capacity expansion.

As requested by the Committee, the Commission's report will cover structural building components including, but not limited to, beams and arches, roof and floor trusses, I-joists, prefabricated partitions and panels (including headers) for buildings and other structural wood members, and cover the period 1997-2002 to the extent possible. As requested, the Commission will transmit its report to the Committee by April 30, 2003.

FOR FURTHER INFORMATION CONTACT: Industry-specific information may be obtained from Alfred Forstall, Project Leader (202-205-3443 or AForstall@usitc.gov) or Vincent Honnold, Deputy Project Leader (202-205-3314 or VHonnold@usitc.gov), Office of Industries, U.S. International Trade Commission, Washington, DC 20436. For information on legal aspects of this investigation, contact William Gearhart of the Office of General Counsel (202-205-3091or wgearhart@usitc.gov). Hearing impaired individuals are advised that information on this matter can be obtained by contacting the TDD terminal on (202-205-1810).

Public Hearing: A public hearing in connection with the investigation will be held at the U.S. International Trade Commission Building, 500 E Street SW., Washington, DC beginning at 9:30 a.m. on December 5, 2002. All persons shall have the right to appear, by counsel or in person, to present information and to be heard. Requests to appear at the public hearing should be filed with the Secretary, United States International Trade Commission, 500 E Street SW., Washington, DC 20436, no later than 5:15 p.m., November 21, 2002. Any prehearing briefs (original and 14 copies) should be filed not later than 5:15 p.m., November 25, 2002; the deadline for filing post-hearing briefs or statements is 5:15 p.m., December 19, 2002. In the event that, as of the close of business on November 21, 2002, no witnesses are scheduled to appear at the hearing, the hearing will be canceled. Any person interested in attending the hearing as an observer or non-participant may call the Secretary (202-205-1806) after November 21, 2002, to determine whether the hearing will be held.

Written Submissions: In lieu of or in addition to participating in the hearing, interested parties are invited to submit written statements (original and 14 copies) concerning the matters to be addressed by the Commission in its report on this investigation. Commercial or financial information that a submitter desires the Commission to treat as confidential must be provided on separate sheets of paper, each clearly marked “Confidential Business Information” at the top. All submissions requesting confidential treatment must conform with the requirements of section 201.6 of the Commission's rules of practice and procedure (19 CFR 201.6). All written submissions, except for confidential business information, will be made available in the Office of the Secretary to the Commission for inspection by interested parties. The Senate Committee on Finance has requested that the Commission prepare a public report (containing no confidential business information). Accordingly, any confidential business information received by the Commission in this investigation and used in preparing the report will not be published in a manner that would reveal the operations of the firm supplying the information. To be assured of consideration by the Commission, written statements relating to the Commission's report should be submitted to the Commission at the earliest practical date and should be received no later than the close of business on December 19, 2002. All submissions should be addressed to the Secretary, United States International Trade Commission, 500 E Street SW., Washington, DC 20436. The Commission's rules do not authorize filing submissions with the Secretary by facsimile or electronic means. Persons with mobility impairments who will need special assistance in gaining access to the Commission should contact the Office of the Secretary at 202-205-2000. General information concerning the Commission may also be obtained by accessing its Internet server (http://www.usitc.gov).

List of Subjects

Wood structural building components, tariffs, and imports.

Issued: August 23, 2002.
By order of the Commission.
Marilyn R. Abbott,
Secretary to the Commission.

[FR Doc. 02-21929 Filed 8-27-02; 8:45 am]

BILLING CODE 7020-02-P